DEPARTMENT OF DEFENSE

Department of the Air Force

HQ USAF Scientific Advisory Board Meeting

The Hypersonic Research in the Air Force Study will meet in Washington, DC and Seattle, Washington on March 28-30, 2000 from 8 a.m. to 5 p.m.

The purpose of the meeting is to receive briefings and discuss the direction of the study. The meeting will be closed to the public in accordance with Section 552b(c) of Title 5, United States Code, specifically subparagraphs (1) and (4) thereof.

For further information, contact the HQ USAF Scientific Advisory Board Secretariat at (703) 697-8404.

Janet A. Long,
Air Force Federal Register Liaison Officer.

[FR Doc. 00-4940 Filed 2-29-00; 8:45 am]

BILLING CODE 5001-05-P